DEPARTMENT OF COMMERCE

Foreign-Trade Zones Board

[B-65-2013]

Notification of Proposed Production Activity; Subzone 7G; Schering-Plough Products, L.L.C. (Pharmaceutical Products); Las Piedras, Puerto Rico

Schering-Plough Products, L.L.C. (Schering-Plough), operator of Subzone 7G, submitted a notification of proposed production activity to the FTZ Board for its facility in Las Piedras, Puerto Rico. The notification conforming to the requirements of the regulations of the FTZ Board (15 CFR 400.22) was received on June 17, 2013.

Schering-Plough currently has authority to produce certain pharmaceutical products and their intermediates within Subzone 7G. The current request would add the production of suvorexant pharmaceutical tablets for the treatment of insomnia using a proprietary active ingredient, an orexin receptor antagonist, to the scope of authority. Pursuant to 15 CFR 400.14(b), additional FTZ authority would be limited to the specific foreign-status material and the specific finished product listed in the submitted notification described here and subsequently authorized by the FTZ Board.

Production under FTZ procedures could exempt Schering-Plough from customs duty payments on the foreign status material used in export production. On its domestic sales, Schering-Plough would be able to choose the duty rate during customs entry procedures that applies to the suvorexant tablets (duty-free) for the additional foreign-status active ingredient (duty rate, 6.5%) and for the foreign status inputs in the existing scope of authority. Customs duties also could possibly be deferred or reduced on foreign status production equipment.

Public comment is invited from interested parties. Submissions shall be addressed to the Board's Executive Secretary at the address below. The closing period for their receipt is August 12, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Diane Finver at Diane.Finver@trade.gov or (202) 482-1367.

Dated: June 25, 2013.
Elizabeth Whiteman,
Acting Executive Secretary.

[FR Doc. 2013-15724 Filed 6-28-13; 8:45 am]

BILLING CODE 3510-DS-P